DEPARTMENT OF ENERGY

Federal Energy Regulatory Commission

Combined Notice of Filings No. 1

June 21, 2010.

Take notice that the Commission has received the following Natural Gas Pipeline Rate and Refund Report filings:

Docket Numbers: RP10-852-000.

Applicants: Equitrans, L.P.

Description: Equitrans, L.P. submits tariff filing per 154.203: Tennessee Capacity Surcharge Tracker Compliance, to be effective 6/9/2010.

Filed Date: 06/17/2010.

Accession Number: 20100617-5055.

Comment Date: 5 p.m. Eastern Time on Tuesday, June 29, 2010.

Docket Numbers: RP10-853-000.

Applicants: Transwestern Pipeline Company, LLC.

Description: Transwestern Pipeline Company, LLC submits Seventh Revised Sheet 1 et al. to FERC Gas Tariff, Third Revised Volume 1 to be effective &7/18/10.

Filed Date: 06/17/2010.

Accession Number: 20100617-0208.

Comment Date: 5 p.m. Eastern Time on Tuesday, June 29, 2010.

Docket Numbers: RP10-854-000.

Applicants: Mojave Pipeline Company.

Description: Mojave Pipeline Company submits tariff filing per 154.203: Tariff Update, to be effective 6/7/2010.

Filed Date: 06/17/2010.

Accession Number: 20100617-5107.

Comment Date: 5 p.m. Eastern Time on Tuesday, June 29, 2010.

Docket Numbers: RP10-855-000.

Applicants: Kinder Morgan Interstate Gas Trans. LLC.

Description: Kinder Morgan Interstate Gas Transmission LLC submits First Revised Sheet 4G.03 et al. to FERC Gas Tariff, Fourth Revised Volume 1A, to be effective 6/17/2010.

Filed Date: 06/17/2010.

Accession Number: 20100618-0203.

Comment Date: 5 p.m. Eastern Time on Tuesday, June 29, 2010.

Docket Numbers: RP10-856-000.

Applicants: CenterPoint Energy—Mississippi River Transmission.

Description: CenterPoint Energy—Mississippi River Transmission Corporation submits tariff filing per 154.203: MRT Baseline to be effective 6/18/2010.

Filed Date: 06/18/2010.

Accession Number: 20100618-5025.

Comment Date: 5 p.m. Eastern Time on Wednesday, June 30, 2010.

Docket Numbers: RP10-857-000.

Applicants: El Paso Natural Gas Company.

Description: El Paso Natural Gas Company submits tariff filing per 154.204: Tariff Merger to be effective 5/1/2010.

Filed Date: 06/18/2010.

Accession Number: 20100618-5038.

Comment Date: 5 p.m. Eastern Time on Wednesday, June 30, 2010.

Docket Numbers: RP10-858-000.

Applicants: TransColorado Gas Transmission Company LLC.

Description: TransColorado Gas Transmission Company LLC submits tariff filing per 154.204: No Fuel Filing to be effective 7/19/2010.

Filed Date: 06/18/2010.

Accession Number: 20100618-5045.

Comment Date: 5 p.m. Eastern Time on Wednesday, June 30, 2010.

Docket Numbers: RP10-859-000.

Applicants: Egan Hub Storage, LLC.

Description: Egan Hub Storage, LLC submits Sixth Revised Sheet 206 et al. of its FERC Gas Tariff, First Revised Volume 1, to be effective 6/18/10.

Filed Date: 06/18/2010.

Accession Number: 20100618-0211.

Comment Date: 5 p.m. Eastern Time on Wednesday, June 30, 2010.

Docket Numbers: RP10-860-000.

Applicants: Tennessee Gas Pipeline Company.

Description: Tennessee Gas Pipeline Company submits tariff filing per 154.203: Baseline Filing Volume No. 2 to be effective 6/18/2010.

Filed Date: 06/18/2010.

Accession Number: 20100618-5143.

Comment Date: 5 p.m. Eastern Time on Wednesday, June 30, 2010.

Docket Numbers: RP10-861-000.

Applicants: Egan Hub Storage, LLC.

Description: Egan Hub Storage, LLC submits tariff filing per 154.203: Egan Hub Baseline Filing to be effective 6/21/2010.

Filed Date: 06/21/2010.

Accession Number: 20100621-5008.

Comment Date: 5 p.m. Eastern Time on Tuesday, July 6, 2010.

Docket Numbers: RP10-862-000.

Applicants: Texas Eastern Transmission, LP.

Description: Texas Eastern Transmission, LP submits tariff filing per 154.204: LLFT rate correction to be effective 4/22/2010.

Filed Date: 06/21/2010.

Accession Number: 20100621-5009.

Comment Date: 5 p.m. Eastern Time on Tuesday, July 6, 2010.

Docket Numbers: RP10-863-000.

Applicants: Williston Basin Interstate Pipeline Comp.

Description: Williston Basin Interstate Pipeline Company submits tariff filing per 154.203: Baseline Filing to be effective 6/21/2010.

Filed Date: 06/21/2010.

Accession Number: 20100621-5026.

Comment Date: 5 p.m. Eastern Time on Tuesday, July 6, 2010.

Any person desiring to intervene or to protest in any of the above proceedings must file in accordance with Rules 211 and 214 of the Commission's Rules of Practice and Procedure (18 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-15737 Filed 6-28-10; 8:45 am]

BILLING CODE 6717-01-P